DEPARTMENT OF COMMERCE

National Oceanic and Atmospheric Administration

[I.D. 031606A]

Notice of Intent to Prepare an Environmental Impact Statement for the Proposed Issuance of an Incidental Take Permit

AGENCY: National Marine Fisheries Service, National Oceanic and Atmospheric Administration (NOAA), Commerce.

ACTION: Notice; scoping meetings.

SUMMARY: Pursuant to the National Environmental Policy Act (NEPA), this notice advises the public that NOAA's National Marine Fisheries Service (NMFS) intends to gather the necessary information to prepare an Environmental Impact Statement (EIS). The EIS will examine the proposed implementation of a Habitat Conservation Plan (HCP) and issuance of one incidental take permit (ITP) in accordance the Federal Endangered Species Act (ESA), as amended. The U.S. Forest Service (USFS) and the U.S. Fish and Wildlife Service (USFWS) will be participating as Federal cooperating agencies. The USFS manages land in close proximity to the project area and, therefore, has an interest is the analysis of the proposed action. The applicant may seek an ITP from the USFWS for coverage for species under its jurisdiction; therefore, the USFWS is participating in the scoping process for EIS development.

DATES: We must receive written comments on alternatives and issues to be addressed in the EIS May 26, 2006. We will hold public scoping meetings on:

Tuesday, June 6, 2006, at East Portland Community Center, 740 SE 106th Avenue, Portland, OR from 6 p.m. to 7 p.m., and on Wednesday, June 7, 2006, at Portland City Hall, Lovejoy Room, 1221 SW 4th Avenue, Portland, OR from 5 p.m. to 7 p.m.. We will accept oral and written comments at these meetings.

ADDRESSES: Comments and requests for information should be sent to Ben Meyer, Branch Chief, Willamette Basin Habitat Branch, NMFS, 1201 NE Lloyd Blvd, Suite 1100 Portland, OR 97232, or by facsimile (503) 231-6893; or Joe Zisa, Supervisor, Land and Water Conservation Division, U.S. Fish and Wildlife Service, Oregon Fish and Wildlife Office, 2600 S.E. 98th Ave., Portland, OR 9726, or by facsimile (503) 231-6195. Comments may be submitted by e-mail to the following address: BullRunHCP.nwr@noaa.gov. In the subject line of the e-mail, include the document identifier: Bull Run HCP EIS. Comments and materials received will be available to public inspection, by appointment, during normal business hours at the above addresses.

FOR FURTHER INFORMATION CONTACT: Joe Zisa, USFWS, (360) 231-6961 or Ben Meyer, NMFS, (503) 230-5425.

SUPPLEMENTARY INFORMATION: The permit applicant is the City of Portland, Bureau of Water Works (PWB). PWB intends to request an ITP for four fish species: Chinook salmon (Oncorhynchus tshawytscha), chum salmon (Oncorhynchus keta), coho salmon (Oncorhynchus kisutch) and steelhead/rainbow trout (Oncorhynchus mykiss), which are listed as threatened under the ESA. The PWB may also seek coverage for four species of concern under the jurisdiction of the USFWS - cutthroat trout (Oncorhynchus clarki), Pacific lamprey (Lampetra tridentata), western brook lamprey (Lampetra richardsoni), and river lamprey (Lampetra ayresi), should these species be listed in the future. The PWB, NMFS, and USFWS are also considering coverage for aquatic/riparian species that, if present, could be potentially affected by proposed flow alteration and riparian habitat management measures. The species under consideration include: Cope's giant salamander (Dicamptodon copei), Cascade torrent salamander (Rhyacitruton cascadae), northern red-legged frog (Rana aurora aurora; species of concern), Cascades frog (Rana cascadae; species of concern), coastal tailed frog (Ascaphus truei; species of concern), western toad (Bufo boreas), western painted turtle (Chrysemys picta belli), and northwestern pond turtle (Clemmys marmorata marmorata; species of concern). The PWB and NMFS will undertake a process to evaluate the possibility for impacts to these species, the implications of covering them in the HCP, and the analysis necessary in the EIS. If the species are covered, appropriate conservation measures will be included in the HCP.

The PWB, NMFS, and USFWS are also considering coverage for forest-dwelling species that, if present, could be potentially affected by proposed riparian habitat management measures and noise generated during water supply system operation, maintenance, and repair. Species under consideration include: clouded salamander (Aneides ferreus), fisher (Martes pennanti), Oregon slender salamander (Batrachoseps wrighti; species of concern), Larch Mountain salamander (Plethodon larselli; species of concern), bald eagle (Haliaeetus leucocephalus; threatened), and northern spotted owl (Strix occidentalis caurina; threatened). The PWB and USFWS will undertake a process to evaluate the possibility for impacts to these species, the implications of covering them in the HCP, and the analysis necessary in the EIS. If the species are covered, appropriate conservation measures will be included in the HCP.

The permits would authorize incidental take for specified PWB activities within the Sandy River Basin for a period of 50 years: storage and withdrawal of water from the Bull Run River watershed; operation, maintenance, and repair of existing water supply facilities; generation of electricity (as a byproduct of water supply operation); related land management activities; and biological monitoring.

The HCP would provide measures to minimize and mitigate impacts of the proposed incidental taking of listed species and the habitats upon which they depend.

NMFS is furnishing this notice to advise other agencies and the public of our intentions; and to obtain suggestions and information on the scope of issues to include in the EIS. Written comments and suggestions are invited from all interested parties to ensure that the full range of issues related to the NMFS proposed action is identified as well as possible issues related to USFWS species coverage. All comments and suggestions will become part of the administrative record and may be released to the public, including respondents' names and addresses. Section 10 of the ESA contains provisions for the issuance of incidental take permits to non-federal entities for the take of endangered and threatened species, provided that take is incidental to otherwise lawful activities and will not appreciably reduce the likelihood of the survival and recovery of the species in the wild. In support of the request for an incidental take permit, the applicant must prepare and submit an HCP to NMFS (and possibly to the USFWS if jurisdictional coverage is considered) describing measures that will be implemented to minimize and mitigate the impacts of the proposed activities to the maximum extent practicable. The applicant must also demonstrate that adequate funding will be provided to ensure that the HCP will be implemented and monitored throughout the proposed term of the plan.

Background

The 140-square-mile (362.6 km) Bull Run watershed lies within the Sandy River Basin in the western foothills of the Cascade Mountains, east of Portland, OR. Primarily within the Mt. Hood National Forest, Bull Run has been a water resource for the City of Portland since 1895. In 1904, a Federal statute restricted access to the watershed to protect the water quality for municipal use. Subsequent laws help protect Portland's water supply, including Public Law 95-200, which established the Bull Run Watershed Management Unit.

The Bull Run water supply system serves drinking water to approximately 800,000 Oregonians, representing nearly one-fourth of Oregon's population. In fiscal year 2002-2003 the PWB estimates it served more than 482,500 in-city customers. The PWB also serves wholesale customers within Multnomah and Washington Counties. Portland's system is configured to serve a wholesale population of 420,000 and routinely provides wholesale service to over 300,000 people.

The PWB owns and operates two dams on the Bull Run River that impound two reservoirs (Bull Run Reservoirs Nos.1 and 2). The reservoirs store an estimated 17 billion gallons of water, of which about 10 billion gallons are usable for drinking water within the operating constraints of an unfiltered water system.

The PWB's activities associated with operation and maintenance of the Bull Run water supply system have the potential to affect species subject to protection under the ESA. In addition to PWB's activities, The Sandy River Basin Agreement (SRBA) partners are working on salmonid recovery in the Sandy Basin. The SRBA is comprised of more than a dozen public and private organizations. To address potential PWB operation and maintenance effects, PWB worked with the SRBA partners to develop a proposed package of conservation measures. The intent is to use the proposed conservation measures as a framework from which the PWB will develop the draft Habitat Conservation Plan.

Purpose and Need

Section 9 of the ESA prohibits the ''taking'' of threatened and endangered species. NMFS (and possibly the USFWS if jurisdictional coverage is considered) may, however, under limited circumstances, issue permits to take federally listed and candidate species, when such a taking is incidental to, and not the purpose of, otherwise lawful activities. The term ''take'' under the ESA means to harass, harm, pursue, hunt, shoot, wound, kill, trap, capture, or collect, or attempt to engage in any such conduct. Regulations governing permits for threatened and endangered species are at 50 CFR 17.22.

Section 10(a)(1)(B) of the ESA and regulations at 50 CFR 17.32 contain provisions for issuing ITPs to non-federal entities for the take of threatened and endangered species, provided the Services determine the following criteria are met: (1) The taking will be incidental; (2) the applicant will, to the maximum extent practicable, minimize and mitigate the impacts of such taking; (3) the applicant will develop an HCP and ensure that adequate funding for the HCP will be provided; (4) the taking will not appreciably reduce the likelihood of the survival and recovery of the species in the wild; and (5) any other measures that the Services may require as being necessary or appropriate for the purposes of the HCP to be met.

The purposes of the Proposed Action are to: (1) Authorize incidental take of certain listed and unlisted species in the Bull Run watershed and the Sandy River that may be affected by the PWB's Bull Run water supply system operations and maintenance; (2) minimize and mitigate the impacts of any incidental take of covered species that might occur as a result of operation and maintenance of the Bull Run water supply system; and (3) provide PWB with reasonable regulatory assurances that additional mitigation measures to address impacts on covered species would not be required beyond the measures described in the 50-year HCP.

The need for the proposed action - issuance of an ITP based on an acceptable HCP is to protect listed species through compliance with the ESA while managing the Bull Run water supply system on a long-term basis. The goal is for the ITP and the HCP to be consistent with PWB's obligations to: (1) Provide cost-effective minimization and mitigation measures for incidental take; (2) ensure an adequate long-term water supply at reasonable cost to ratepayers; and (3) comply with state water quality standards and total maximum daily load (TMDL) designations for the Bull Run and Sandy River Basin.

The needs and goals for NMFS are to conserve listed species and their habitats and associated species during PWB's proposed activities to ensure compliance with the ESA and other applicable laws and regulations. NMFS and PWB consider implementation of an HCP to be an appropriate means of reconciling PWB's proposed activities with the prohibitions against take and other conservation mandates of the ESA. In the event that the USFWS becomes a co-lead agency for EIS development, its needs and goals will be the same as those described above.

Proposed Action

The Proposed Action by NMFS is the issuance of an ITP (and perhaps an additional ITP from USFWS) based on an acceptable HCP for specific listed and unlisted species for PWB's operation and maintenance of the Bull Run water supply system for a period of 50 years, pursuant to section 10(a)(1)(B) of the ESA.

PWB is applying for ITPs for the federally listed and nonlisted species described above. Other listed and unlisted species for which PWB is not seeking permit coverage may also benefit from the conservation measures provided in the HCP.

Covered lands proposed for incidental take include all lands within the hydrologic boundary of the Sandy River Basin but only to the extent those lands are affected by the covered activities and/or the conservation measures. Proposed coverage in the HCP is driven primarily by PWB activities as they may affect aquatic and riparian species, not by land ownership or management of land by the City.

Associated facilities include, but are not limited to:

Bull Run Dam Nos. 1 and 2 and associated structures

Reservoir No. 1 (Lake Ben Morrow) and Reservoir No. 2

Diversion Dam and Pool below Dam No. 2

Powerhouses and associated structures at Dam Nos. 1 and 2

Reservoir log booms and other reservoir structures

Headworks facility (screens, chlorination facility, operation equipment)

Water supply conduits (including interties and blowoffs), bridges, and trestles

Roads and other paved/graveled surfaces on non-federal lands

Water quality monitoring stations and flow gauges

Microwave communication towers

PWB facilities located outside the Sandy River Basin (e.g., urban reservoirs, water distribution system, Columbia South Shore Well Field) will not be covered in the ITPs. The PWB facilities at Bull Run Lake are also not proposed for coverage. The PWB and NMFS do not anticipate significant new facilities or major modifications to existing Bull Run water supply system facilities during the term of the ITPs. If they were proposed, future coverage of new facilities would require possible amendment of the HCP and further NEPA review.

The ITP would cover activities associated with the lands and facilities described above. These include:

• Storage of water behind Dam No. 1 and Dam No. 2 on the Bull Run River, and withdrawal of water from the Bull Run River at the headworks diversion dam downstream of Dam No. 2 at River Mile 5.8. The amount and timing of water storage and withdrawal would be determined by the City to meet water demand, within the limits to be specified in the HCP to maintain appropriate instream flow, water quality, and temperature.

• Operation, maintenance, and repair of water supply facilities, including but not limited to adjustment of water intake depth to regulate temperature, turbidity, and color; removal of debris (including logs) from reservoirs; operation of boats and barges on reservoirs; delivery and storage of fuel and lubricants for water supply system vehicles and equipment; flushing and de-chlorination of diversion conduits; and general landscape maintenance in and around facilities.

• Generation of electricity at Dam No. 1 and Dam No. 2 as a byproduct of water supply operation, subject to limits on the release of water through the turbines (ramping rates) to be specified in the HCP.

• Related land management activities such as maintenance and repair of roads, bridges, culverts, and parking lots on non-federal lands in the watershed; management of City-owned riparian lands in the watershed; operation and maintenance of Dodge Park; and operation and maintenance of the Sandy River Station headquarters and yard.

• Implementation of habitat conservation measures and monitoring measures included in the HCP.

• Two specific improvements at DAM 2 intake towers and spillway weir. Intake towers would be modified to allow for improved water temperature management, and fish screens would be installed. Spillway weir will be rebuilt to protect water supply conduits from the energy of the spillway flow.

The PWB is not applying for coverage of forest management or other land management activities on federal land (e.g., road maintenance, building maintenance, communication system maintenance), and the potential associated effects of habitat manipulation of terrestrial species (e.g., northern spotted owl). Mechanisms other than implementing an HCP (e.g., ESA consultations) have been, and will be, used to deal with ESA compliance issues affecting those species and activities, when and if they arise.

Conservation Measures

The PWB, in negotiation with the Services and with the assistance of the Sandy River Basin Agreement (SRBA) partners, has identified possible conservation measures that could provide ecological compensation for incidental take. Identified conservation measures have the following biological objectives:

Increase minimum flows in lower Bull Run River to improve spawning and rearing habitat.

Minimize fish stranding by controlling river flow fluctuations.

Provide improved summer rearing water temperatures for steelhead.

Increase availability of spawning gravel in the lower Bull Run River.

Improve habitat in the Sandy Basin.

Preserve riparian habitat along the lower Bull Run River.

Protect instream flows in the Little Sandy River.

Minimize mortality of cutthroat trout in Bull Run Reservoir 2.

Protect and improve riparian habitat along the lower and middle mainstem Sandy River and the Salmon River.

Improve instream habitat in the Sandy Basin.

Restore access to blocked habitat in the Sandy Basin.

The PWB is proposing to implement conservation measures to address these objectives for the duration of the HCP and term of the ITPs. The preliminary package of measures is documented as draft conservation measures available from the PWB. Implementation would also include monitoring compliance with and effectiveness of the HCP provisions and regular reporting to NMFS (and perhaps to the USFWS if an ITP is issued under its jurisdiction). Adaptive management, as will be specified in the HCP and associated federal Implementation Agreement, could result in the modification and improvement of HCP measures in response to new information.

Preliminary Alternatives

The EIS shall consider a range of alternative conservation strategies that satisfy the project purpose and need. These alternatives, including the Proposed Action, will be documented in the draft EIS. Those alternatives best satisfying the underlying need as well as addressing the project objectives of both the PWB and NMFS will be fully evaluated in the draft EIS. In addition, a No Action Alternative will be evaluated that considers actions likely to occur in the absence of the HCP.

It is anticipated that, in addition to the No Action Alternative, the draft EIS will provide a full evaluation of one or two other alternatives that satisfy section 10 of the ESA and NEPA requirements for alternatives analyses. These alternative conservation strategies could describe sets of actions intended to further reduce the risk of take, or describe different or additional measures intended to mitigate the impacts of the proposed incidental take. An alternative that includes transporting fish around the Bull Run dams will be evaluated. Other examples of potential alternatives include different flow regimes or altered conservation measure implementation schedules. Additional project alternatives may be developed based on input received as a result of this notice and the scoping process.

NMFS Scoping

NMFS and its cooperating agencies invite comments from all interested parties to ensure that the full range of issues related to the permit requests are addressed and that all significant issues are identified. Comments are encouraged on potential impacts related to all species described above in the event that the USFWS considers species under its jurisdiction for coverage. No additional NEPA scoping is anticipated if the USFWS becomes a co-lead agency for the preparation of this EIS. We will conduct the environmental review of the permit applications in accordance with the requirements of the NEPA (42 U.S.C. 4321 et seq.), other appropriate Federal laws, and regulations, policies, and procedures of the Services for compliance with those regulations.

Comments and suggestions are invited from all interested parties to ensure the full range of alternatives related to this proposed action, including possible USFWS species coverage, and all significant issues are identified. NMFS and the USFWS request that comments be as specific as possible. Comments are requested to include information, issues, and concerns regarding: The direct, indirect, and cumulative effects that implementation of the proposal could have on all NMFS or USFWS-listed endangered and threatened species described above for coverage or potential coverage, or their habitats; other possible alternatives; potential adaptive management and/or monitoring provisions; funding issues; baseline environmental conditions; other plans or projects that might be relevant to this project; and minimization and mitigation measures. In addition to considering impacts to threatened and endangered species and their habitats, the EIS will analyze the effects the alternatives would cause to other components of the human environment. As a result, comments are also solicited regarding these other components of the human environment, which may include the following: air quality; water quality and quantity; geology and soils; cultural resources; social resources; economic resources; and environmental justice.

After the environmental review is completed, NMFS will publish a notice of availability and a request for comment on the draft EIS and PWB's permit applications, which will include the draft HCP and draft Implementation Agreement.

The draft EIS, draft HCP, and draft Implementation Agreement may include actions by the USFWS, which would be described in the notice of availability.

Dated: March 22, 2006.
Angela Somma,
Chief, Endangered Species Division, Office of Protected Resources, National Marine Fisheries Service.

[FR Doc. E6-4397 Filed 3-24-06; 8:45 am]

BILLING CODE 3510-22-S